ENVIRONMENTAL PROTECTION AGENCY

[FRL-6895-3]

Agency Information Collection Activities: Submission for OMB Review; Comment Request; Request for Information for the Bioremediation Field Initiative Database System

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Request for Information for the Bioremediation Field Initiative Database System, EPA ICR No. 1672.03, OMB Control No. 2080-0048, expires November 30, 2000. The ICR describes the nature of the information collection and its expected burden and cost; where appropriate, it includes the actual data collection instrument.

DATES: Comments must be submitted on or before December 4, 2000.

ADDRESSES: Send comments, referencing EPA ICR No. 1672.03 and OMB Control No. 2080-0048, to the following addresses: Sandy Farmer, U.S. Environmental Protection Agency, Collection Strategies Division (Mail Code 2822), 1200 Pennsylvania Avenue, N.W., Washington, DC 20460; and to Office of Information and Regulatory Affairs, Office of Management and Budget (OMB), Attention: Desk Officer for EPA, 725 17th Street, N.W., Washington, DC 20503.

FOR FURTHER INFORMATION CONTACT: For a copy of the ICR contact Sandy Farmer at EPA by phone at (202) 260-2740, by email at farmer.sandy@epamail.epa.gov, or download off the Internet at http://www.epa.gov/icr and refer to EPA ICR No. 1672.03. For technical questions about the ICR contact Fran Kremer at 513-569-7346 or email at kremer.fran@epa.gov.

SUPPLEMENTARY INFORMATION: Title: Request for Information for the Bioremediation Field Initiative Database System (OMB Control No. 2080-0048; EPA ICR No. 1672.03) expiring November 30, 2000. This is a request for extension of a currently approved collection.

Abstract: This is an ICR renewal for gathering information on the design, operation, and performance of biological treatment technologies from remediation experts and managers working at sites where biological treatment technologies are being tested or implemented. The authority for collecting information on innovative treatment technologies is described at section 311 of the Superfund Amendments and Reauthorization Act, section 8003 of the Resource Conservation and Recovery Act, section 7001 of the Oil Pollution Act, and section 10 of the Toxic Substance Control Act. Response to the collection of information is voluntary. The information will help the EPA to deploy innovative technologies more quickly at Superfund and other sites. Selected respondents are asked to complete and return, via mail, a two-part questionnaire. The first part requests general site information, such as location, contacts, contaminants, and legislative authority under which the site is being remediated. The second part requests site-specific biotechnology information, such as the stage of the operation, wastes and media being treated, cleanup level goals, and the performance and cost of the treatment. Again, all responses are strictly voluntary. Following the initial questionnaire, respondents receive followup questionnaires on a semi-annual basis to update the information already provided.

EPA compiles information from completed questionnaires into the Bioremediation Field Initiative computer database. EPA developed a software program called the Bioremediation in the Field Search System (BFSS) to search, view, and report information in the database. Recently, EPA re-engineered this software into a Web-enabled application, making the BFSS data available to the public for online searching.

Each site in the database includes contact information for one or more individuals associated with the regulatory authority or application of bioremediation technology at the site. Remediation professionals may contact individuals with common site conditions to share information. Summary statistics may be drawn from the database to elucidate trends in bioremediation.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on March 15, 2000 (65 FR 13962); no comments were received.

Burden Statement: The annual public reporting and recordkeeping burden for this collection of information is estimated to average 1.0 hour per response for update respondents and 5.0 hours per response for first-time respondents. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State/local governments, private companies, universities, and research centers.

Estimated Number of Respondents: 781.

Frequency of Responses: Semi-annually and annually.

Estimated Total Annual Hour Burden: 1620.

Estimated Total Annualized Capital, Operating/Maintenance Cost Burden: 0.

Send comments on the Agency's need for this information, the accuracy of the provided burden estimates, and any suggested methods for minimizing respondent burden, including through the use of automated collection techniques to the following addresses. Please refer to EPA ICR No. 1672.03 and OMB Control No. 2080-0048 in any correspondence.

Dated: October 26, 2000.
Oscar Morales,
Director, Collection Strategies Division.

[FR Doc. 00-28168 Filed 11-1-00; 8:45 am]

BILLING CODE 6560-50-U